DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration.

Title: Atlantic Highly Migratory Species (HMS) Recreational Landings and Bluefin Tuna Catch Reports.

OMB Control Number: 0648-0328.

Form Number(s): None.

Type of Request: Regular (Extension, without change, of a currently approved collection).

Number of Respondents: 15,761.

Average Hours per Response: 5-10 minutes per landings report; 1 hour for state reports.

Burden Hours: 1,786.

Needs and Uses: Catch reporting from recreational and commercial handgear fisheries provides important data used to monitor catches of Atlantic highly migratory species (HMS) and supplements other existing data collection programs. Data collected through this program are used for both domestic and international fisheries management and stock assessment purposes.

Atlantic bluefin tuna (BFT) catch reporting provides real-time catch information used to monitor the BFT fishery. Under the Atlantic Tunas Convention Act of 1975 (ATCA, 16 U.S.C. 971), the United States is required to adopt regulations, as necessary and appropriate, to implement recommendations of the International Commission for the Conservation of Atlantic Tunas (ICCAT), including recommendations on a specified BFT quota. BFT catch reporting helps the United States monitor this quota and supports scientific research consistent with ATCA and the Magnuson-Stevens Fishery Conservation and Management Act (Magnuson-Stevens Act, 16 U.S.C. 1801 et seq.). Recreational anglers and commercial handgear fishermen are required to report specific information regarding their catch of BFT.

Atlantic billfish and swordfish are managed internationally by ICCAT and nationally under ATCA and the Magnuson-Stevens Act. This collection provides information needed to monitor the recreational catch of Atlantic blue marlin, white marlin, and roundscale spearfish, which is applied to the recreational limit established by ICCAT, and the recreational catch of North Atlantic swordfish, which is applied to the U.S. quota established by ICCAT. This collection also provides information on recreational landings of West Atlantic sailfish, which is unavailable from other established monitoring programs.

Affected Public: Businesses or other for-profit organizations; individuals or households; and State, Local, or Tribal government.

Frequency: On occasion; Weekly/Bi-weekly; Annually.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-14849 Filed 7-11-19; 8:45 am]

BILLING CODE 3510-22-P